DEPARTMENT OF LABOR

Employment and Training Administration

Workforce Investment Act Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council as constituted under WIA.

Time and Date: The meeting will begin at 9 a.m. Eastern Daylight Time (EDT) on Wednesday, October 12, 2005, and continue until 5 p.m. EDT that day. The period from 3 p.m. to 5 p.m. EDT on October 12 will be reserved for participation and presentation by members of the public. The meeting will reconvene at 9 a.m. EDT on Thursday, October 13, 2005, and adjourn at approximately 12 noon EDT on that day.

Place: All sessions will be held at the Grand Hyatt Washington, 1000 H Street, NW., Washington, DC.

Status: The meeting will be open to the public. Persons who need special accommodations should contact Ms. Athena Brown, Chief, Division of Indian and Native American Programs, on (202) 693-3737 by September 30, 2005.

Matters To Be Considered: The formal agenda will focus on the following topics: (1) Strategic Planning for Economic Development, (2) Workgroup Reports, (3) Unemployment Insurance Wage Study-Findings and Recommendations, and (4) Training and Technical Assistance.

FOR FURTHER INFORMATION CONTACT: Ms. Athena Brown, Chief, Division of Indian and Native American Programs, Office of National Programs, Employment and Training Administration, U.S. Department of Labor, Room C-4311, 200 Constitution Avenue, NW., Washington, DC 20210.

Telephone: (202) 693-3737 (VOICE) (this is not a toll-free number), or (202) 693-3841.

Signed at Washington, DC this 9th day of September, 2005.
Emily Stover DeRocco,
Assistant Secretary, Employment and Training Administration.

[FR Doc. 05-18412 Filed 9-15-05; 8:45 am]

BILLING CODE 4510-30-M